DEPARTMENT OF COMMERCE

International Trade Administration

(A-583-816)

Certain Stainless Steel Butt-Weld Pipe Fittings from Taiwan: Notice of Amended Final Results Pursuant to Final Court Decision

AGENCY: Import Administration, International Trade Administration, Department of Commerce

SUMMARY: On April 6, 2006, in Alloy Piping Products, Inc., Flowline Division, et al. v. United States, Slip Op. 06-47, (“Alloy Piping II”), the Court of International Trade (“CIT”) affirmed the Department of Commerce’s (the “Department”) Final Results of Determination Pursuant to Remand (“Remand Results”), dated August 16, 2004, and entered a judgment order. This litigation related to the Department’s review of the antidumping order on certain stainless steel butt-weld pipe fittings from Taiwan, covering the period of review (“POR”) June 1, 1998, through May 31, 1999. See Certain Stainless Steel Butt-Weld Pipe Fittings Final Results of Antidumping Duty Administrative Review, 65 FR 81827, 81828 (December 27, 2000) (“Final Results”). On June 5, 2006, Ta Chen Stainless Steel Pipe, Ltd. (“Ta Chen”) appealed the CIT’s decision to the Court of Appeals for the Federal Circuit (“CAFC”). On September 21, 2006, the CAFC dismissed the appeal pursuant to the parties’ dismissal agreement. See Ta Chen Stainless Steel Pipe, Ltd., v. United States, 208 Fed. Appx. 818, 2006 U.S. App. LEXIS 24777 (Fed. Cir. 2006) (“Ta Chen Stainless Steel”). Because Alloy Piping II constitutes a final and conclusive court decision in this action, we are amending the final results of review in this proceeding and we will instruct U.S. Customs and Border Protection (“CBP”) to liquidate entries subject to this review.

DATES: EFFECTIVE DATE:April 25, 2008.

FOR FURTHER INFORMATION CONTACT: FOR FURTHER INFORMATION CONTACT: Alex Villanueva, AD/CVD Operations, Office 9, Import Administration, International Trade Administration, U.S. Department of Commerce, 1401 Constitution Avenue, NW, Washington, DC 20230; telephone: 202-482-3208.

SUPPLEMENTARY INFORMATION:

BACKGROUND

Following publication of the Final Results, Ta Chen filed a lawsuit with the CIT challenging the Department’s findings. In Alloy Piping v. United States, Slip Op. 04-46 (CIT 2004) (“Alloy Piping I”), the CIT remanded the Department’s final results to permit it: (1) to reconsider the factual and legal basis for its determination concerning the alleged reimbursement agreement; (2) to reconsider its calculation of constructed export price (“CEP”) profit; and (3) the opportunity to fully articulate the reasoning underlying its findings, conclusions and determination on the remanded issues.

The Department complied with the CIT’s remand instructions and issued its Remand Results on August 16, 2004. See Remand Results. In the Remand Results, the Department reconsidered its decision concerning the reimbursement agreement and determined that the reimbursement agreement, in light of the new information submitted by Ta Chen on May 18, 2004, did not apply for the June 1, 1998, through May 31, 1999, period, but was instead limited to the 1992-1994 period. The Department also reconsidered its CEP profit calculation and determined that the CEP profit equation is symmetric with regard to the imputed interest expenses such that the imputed interest expenses in the “Total U.S. Expenses” numerator are in fact reflected in recognized financial expenses in the “Total Expenses” denominator and the “Total Actual Profit” multiplier. Thus, the Department did not change Ta Chen’s CEP profit. As a result of the remand determination, the antidumping duty rate for Ta Chen was decreased from 12.84 to 6.42 percent. The CIT did not receive comments from any interested parties regarding the Department’s Remand Results.

On April 6, 2006, the CIT affirmed the Department’s findings in the Remand Results. Specifically, the CIT affirmed the Department’s finding that Ta Chen did not reimburse antidumping duties during the POR and the Department’s decision not to change Ta Chen’s CEP profit calculation. See Alloy Piping II. On April 18, 2006, consistent with the decision of the United States Court of Appeals for the Federal Circuit in Timken Co. v. United States, 893 F. 2d 337 (Fed. Cir. 1990), the Department notified the public that the CIT’s decision was “not in harmony” with the Final Results. See Certain Stainless Steel Butt-Weld Pipe Fittings from Taiwan: Notice of Court Decision and Suspension of Liquidation, 71 FR 19873 (April 18, 2006).

On June 5, 2006, Ta Chen appealed the CIT’s decision to the CAFC. On September 21, 2006, in Ta Chen Stainless Steel, the CAFC dismissed the appeal pursuant to the parties’ dismissal agreement. Because Alloy Piping II constitutes a final and conclusive court decision in this action, we are amending our final results of review and we will instruct CBP to liquidate entries subject to this review.

AMENDED FINAL RESULTS

Because no further appeals have been filed and there is now a final and conclusive decision in the court proceeding, we are amending the final results of administrative review of the antidumping order on certain stainless steel butt-weld pipe fittings from Taiwan for the period of June 1, 1998, through May 31, 1999. The revised weight-averaged dumping margin is as follows:

Company | Final Margin | Amended Final Margin
Ta Chen... | 12.84 | 6.42

ASSESSMENT RATES

The Department will determine, and CBP shall assess, antidumping duties on all appropriate entries. In accordance with 19 CFR 351.212(b)(1), we have calculated importer-specific assessment rates. Where the importer-specific assessment rate is above de minimis on an ad valorem basis, calculated by dividing the dumping margins found on examined subject merchandise by the estimated entered value, we will instruct CBP to assess antidumping duties on that importer’s entries of subject merchandise. In accordance with 19 CFR 351.106(c)(2), we will instruct CBP to liquidate without regard to antidumping duties any entries for which the importer-specific assessment rate is de minimis (i.e., less than 0.5 percent ad valorem). The Department will issue appropriate assessment instructions directly to CBP 15 days after publication of these amended final results of review.

This notice is issued and published in accordance with section 751(a)(1) of the Tariff Act of 1930, as amended.

Dated: April 18, 2008.
David M. Spooner,
Assistant Secretary for Import Administration.

[FR Doc. E8-9142 Filed 4-24-08; 8:45 am]

BILLING CODE 3510-DS-S